DEPARTMENT OF TRANSPORTATION

Federal Aviation Administration

Twenty-Second Meeting: RTCA Special Committee 203, Unmanned Aircraft Systems

AGENCY: Federal Aviation Administration (FAA), U.S. Department of Transportation (DOT).

ACTION: Meeting notice of RTCA Special Committee 203, Unmanned Aircraft Systems.

SUMMARY: The FAA is issuing this notice to advise the public of the twenty-second meeting of RTCA Special Committee 203, Unmanned Aircraft Systems.

DATES: The meeting will be held September 11-13, 2012, from 9 a.m.-5 p.m.

ADDRESSES: The meeting will be held at NASA Ames Conference Center, 500 Severyns Road, NASA Ames Research Center, Moffett Field, CA 94035, (650) 604-2082, email: hmoses@rtca.org.

FOR FURTHER INFORMATION CONTACT: The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of Special Committee 203. The agenda will include the following:

Tuesday, September 11, 2012

• Introductory Remarks and Introductions

• Approval of Twenty First Plenary Summary

• Chair/Leadership Updates

• Designated Federal Official (DFO) Update

• Schedule Status

• Workgroup Updates

• Other Business

• Date, Place, and Time for Plenary Twenty-Three

• Plenary Adjourns

Work Group Breakout Sessions Will Follow: Tuesday Afternoon—September 11th Through Thursday Noon—September 13th

Note: • Foreign nationals must give 20 business days notice to Alan Hobbs at alan.hobbs@nasa.gov or phone: 650-604-1336 to attend.

• More information on meeting location with maps, nearby hotels, and restaurants can be found at http://naccenter.arc.nasa.gov/index.php.

• Dress Business Casual.

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on August 10, 2012.
David Sicard,
Manager, Business Operations Branch, Federal Aviation Administration.

[FR Doc. 2012-20258 Filed 8-17-12; 8:45 am]

BILLING CODE 4910-13-P